DEPARTMENT OF THE INTERIOR

Fish and Wildlife Service

Notice of Intent to Scope for the Preparation of an Environmental Impact Statement for the Proposed Issuance of an Incidental Take Permit Associated With the Agua Caliente Band of Cahuilla Indians Habitat Conservation Plan, Riverside County, CA

AGENCY: Fish and Wildlife Service, Interior.

ACTION: Notice of intent.

SUMMARY: Pursuant to the National Environmental Policy Act of 1969, as amended, the U.S. Fish and Wildlife Service (Service) as the lead agency, advises the public that it is preparing an Environmental Impact Statement (EIS) for the Agua Caliente Band of Cahuilla Indians Habitat Conservation Plan (HCP) in Riverside County, California. The proposed HCP is being prepared in compliance with the Endangered Species Act of 1973, as amended (Act) (16 U.S.C. 1531 et seq.). The HCP is intended to support the issuance of an incidental take permit to the Agua Caliente Band of Cahuilla Indians (Tribe) from the Service under section 10(a)(1)(B) of the Act. The requested incidental take permit, if granted, would authorize the permittees to incidentally take species federally listed under the Act as a result of activities proposed to be covered under the HCP. It would also address incidental take of other species that are not currently listed, should they be listed during the permit term. The planning area for the HCP is located within the Coachella Valley in eastern Riverside County. The HCP would provide measures to minimize and mitigate the impacts of the proposed taking of covered species and the habitats upon which they depend.

The Service is furnishing this notice in compliance with the National Environmental Policy Act and implementing regulations for the following purposes: (1) to advise other Federal and State agencies, affected tribes, and the public of our intent to prepare an EIS; (2) announce the initiation of a 30-day public scoping period; and (3) to obtain suggestions and information on the scope of issues and alternatives to be considered in the EIS.

DATES: Written comments should be received on or before February 9, 2005.

ADDRESSES: Address comments, requests for more information, or requests to be added to the mailing list for this project to: Ms. Therese O'Rourke, Assistant Field Supervisor, U.S. Fish and Wildlife Service, Carlsbad Fish and Wildlife Office, 6010 Hidden Valley Road, Carlsbad, California 92009 or by facsimile to (760) 431-5902.

FOR FURTHER INFORMATION CONTACT: Jon Avery, Fish and Wildlife Biologist, at (760) 431-9440, extension 309 [see ADDRESSES].

SUPPLEMENTARY INFORMATION:

Background

Section 9 of the Federal ESA (16 U.S.C. 1531 et seq.) and Federal regulations prohibit the “take” of a fish or wildlife species listed as endangered or threatened. Take of federally listed fish and wildlife is defined under the ESA as including to “harass, harm, pursue, hunt, shoot, wound, kill, trap, capture or collect, or to attempt to engage in such conduct” (16 U.S.C. 1538). The Service may, under limited circumstances, issue permits to authorize “incidental take” of listed species. “Incidental take” is defined by the ESA as take that is incidental to, and not the purpose of, carrying out an otherwise lawful activity. Regulations governing permits for threatened species and endangered species, respectively, are at 50 CFR 17.32 and 50 CFR 17.22.

An incidental take permit is needed to authorize take of listed species (including harm, injury and harassment) during urban and rural development on the Agua Caliente Reservation (Reservation). The Tribe is requesting a permit for incidental take of covered species on lands included in the proposed HCP. The HCP planning area includes lands within and near the Reservation and encompasses approximately 87,000 acres. The Reservation totals about 31,500 acres.

The HCP proposes coverage of 24 species: 9 federally-listed (threatened or endangered) species, 1 Federal candidate species, and 14 unlisted species that may become listed during the term of the proposed permit. The species proposed for coverage include: Peninsular bighorn sheep (Ovis canadensis nelsoni), Coachella Valley round-tailed ground squirrel (Spermophilus tereticaudus chlorus), Palm Springs pocket mouse (Perognathus longimembris bangsi), southern yellow bat (Lasiurus ega xanthinus), least Bell's vireo (Vireo bellii pusillus), southwestern willow flycatcher (Epidonax traillii extimus), summer tanager (Piranga rubra cooperi), yellow-breasted chat (Icteria virens), yellow warbler (Dendroica petechia brewstri), burrowing owl (Athene cunicularia), gray vireo (Vireo vicinior), Le Conte's thrasher (Toxostoma lecontei), crissal thrasher (Toxostoma crissali), California red-legged frog (Rana aurora draytonii), mountain yellow-legged frog (Rana muscosa), desert tortoise (Gopherus agassizii), Coachella Valley fringe-toed lizard (Uma inornata), flat-tailed horned lizard (Phyrnosoma mcalli), Coachella Valley grasshopper (Spaniacris deserticola), Coachella giant sand-treader cricket (Macrobaenetes valgum), Coachella Valley Jerusalem cricket (Stenopelmatus cahuilaensis), Coachella Valley milk vetch (Astragalus lentiginosus var. coachellae), triple-ribbed milk vetch (Astragalus tricarinatus), and little San Bernardino Mountains gilia (Linanthus maculatus).

The Tribe intends for the HCP to serve four main purposes: (1) To set forth a program for protecting natural resources while managing economic development objectives for the Reservation; (2) to streamline compliance with the Act into a comprehensive Reservation-wide approach; and (3) to recognize the Tribe's traditional sovereign land and resource management policies and practices; and (4) to provide a feasible and practicable means for the Tribe to conserve the 24 species, and for the Service to meet the responsibilities of the Act under Secretarial Order 3206 and Executive Order 13175.

The proposed HCP would be a comprehensive plan that seeks to address the 24 covered species within a reserve system. Specifically, the proposed HCP would establish: (1) A Mountains and Canyons Conservation Area in which certain lands are proposed to be dedicated to the reserve system and general and species-specific conservation measures would be imposed on covered projects and/or implemented by the Tribe, and (2) a Valley Floor Conservation Area from which funding would generally be required for acquisition and management of additional reserve lands, certain lands would be dedicated to the reserve system, and additional conservation measures would be required to protect certain covered species. The proposed HCP includes avoidance and minimization measures, the establishment of the reserve system, and adaptive management and monitoring pursuant to the Act. The activities proposed to be covered by the HCP include construction and development activities and covered conservation and maintenance activities (including operation and maintenance of public facilities and conservation management).

Public Comments

With the publication of this notice, the public is encouraged to submit written comments. Comments received shall be used to identify issues and draft alternatives. All comments received from individuals on Environmental Impact Statements become part of the official public record. Requests for such comments will be handled in accordance with the Freedom of Information Act, the Council on Environmental Quality's NEPA regulations [40 CFR 1506.6(f)], and other Service and Departmental policy and procedures.

Environmental Impact Statement

The Tribe and the Service have selected Helix Environmental Planning, Inc., to prepare the EIS. The document will be prepared in compliance with the National Environmental Policy Act (42 U.S.C. 4321, et seq.). Helix Environmental Planning, Inc., will prepare the EIS under the supervision of the Service, who is responsible for the scope and content of the document.

The EIS will identify potentially significant direct, indirect, and cumulative impacts on biological resources, land use, air quality, water quality, water resources, economics, and other environmental issues that could occur with the implementation of the Service's proposed actions and alternatives. The EIS will consider the proposed action, the issuance of a section 10(a)(1)(B) permit under the Act, and a reasonable range of alternatives. A detailed description of the impacts of the proposed action and each alternative will be included in the EIS. Several alternatives, including a No Action alternative will be considered and analyzed, representing varying levels of conservation, impacts, and permit area configurations. The No Action alternative means that the Service would not issue a section 10(a)(1)(B) permit.

Review of this project will be conducted in accordance with the National Environmental Policy Act of 1969, as amended (42 U.S.C. 4321 et seq.), associated regulations (40 CFR parts 1500-1508) found at (http://www.legal.gsa.gov), other appropriate Federal laws, and Service policies and procedures for compliance with those regulations. This notice is being furnished in accordance with 40 CFR 1501.7 of the National Environmental Policy Act to obtain suggestions and information from other agencies and the public on the scope of issues and alternatives to be addressed in the EIS. The primary purpose of the scoping process is to identify important issues raised by the public, related to the proposed action. Written comments from interested parties are welcome to ensure that the full range of issues related to the permit request is identified. All comments received, including names and addresses, will become part of the official administrative record and may be made available to the public.

Dated: January 4, 2005.
David G. Paullin,
Acting Deputy Manager, California/Nevada Operations Office, Sacramento, California.

[FR Doc. 05-406 Filed 1-7-05; 8:45 am]

BILLING CODE 4310-55-P